DEPARTMENT OF TRANSPORTATION

Surface Transportation Board

49 CFR Parts 1241, 1242, 1243, 1244, 1245, 1246, 1247, and 1248

[Docket No. EP 701]

Accelerating Reporting Requirements for Class I Railroads

AGENCY: Surface Transportation Board.

ACTION: Notice of proposed rulemaking.

SUMMARY: The Surface Transportation Board (Board or STB) proposes to revise its regulations to accelerate the filing deadlines for eight reports submitted by Class I railroads: Schedule 250 (required under the Annual Report Form R-1); Quarterly Condensed Balance Sheet Forms (CBS); Quarterly Revenue, Expenses, and Income Reports (RE&I); Quarterly and Annual Wage Forms A&B; Quarterly Reports of Fuel Cost, Consumption, and Surcharge Revenue; Quarterly and Annual Freight Commodity Statistics Report Forms (QCS); Annual Report of Cars Loaded and Terminated (Form STB-54); and Monthly Report of Number of Employees (Form C).

DATES: Comments on this proposed rulemaking are due on or before August 7, 2015; reply comments are due by September 8, 2015.

ADDRESSES: Comments may be submitted either via the Board's e-filing format or in the traditional paper format. Any person using e-filing should attach a document and otherwise comply with the instructions at the E-FILING link on the Board's Web site, at http://www.stb.dot.gov. Any person submitting a filing in the traditional paper format should send an original and 10 copies to: Surface Transportation Board, Attn: Docket No. EP 701, 395 E Street SW., Washington, DC 20423-0001.

Copies of written comments received by the Board will be posted to the Board's Web site at http://www.stb.dot.gov and will be available for viewing and self-copying in the Board's Public Docket Room, Suite 131, 395 E Street SW., Washington, DC. Copies of the comments will also be available (for a fee) by contacting the Board's Chief Records Officer at (202) 245-0238 or 395 E Street SW., Washington, DC 20423-0001.

FOR FURTHER INFORMATION CONTACT: Pedro Ramirez, (202) 245-0333. Assistance for the hearing impaired is available through Federal Information Relay Service (FIRS) at (800) 877-8339.

SUPPLEMENTARY INFORMATION: The Board has authority to collect financial and statistical data from Class I railroads as necessary for the economic oversight of the industry. 49 U.S.C. 721(b), 11145. To this end, the Board's regulations require Class I railroads to submit annual, quarterly, and monthly reports containing financial and operating statistics, including employment and traffic data. 49 U.S.C. 11145; 49 CFR parts 1241 through 1248. The data collected is used by the Board in various decisions as well as by other governmental agencies and interested parties in evaluating the railroad industry.

The proposed changes to filing deadlines would further facilitate the Board's oversight of Class I railroads. Earlier reporting of financial information would also allow the Board and the public to more quickly identify and evaluate emerging trends, business conditions, and issues related to Class I railroads. The Board's decisions concerning revenue and expenses of the railroads would be based on more current information.

Many of the current reporting deadlines have not been revised for over four decades. For example, the filing dates for Form RE&I and Form CBS have not been modified since March 16, 1972. Since then, reporting and information technology has improved, allowing data to be more easily compiled.

Proposed Filing Deadlines. The proposed regulations would provide for more timely filing deadlines:

(1) Schedule 250 would be required to be filed with the Annual Report Form R-1 by March 31 of the year following the report year (49 CFR 1241.11), instead of by April 30;

(2) Quarterly Report Forms RE&I (49 CFR 1243.1), CBS (49 CFR 1243.2), and Report of Fuel Cost, Consumption, and Surcharge Revenue (49 CFR 1243.3) would be required to be filed within 15 days, instead of 30 days, after the end of each quarter;

(3) Quarterly Wage Forms A & B would be required to be filed 15 days after the end of each quarter, instead of 30 days, and Annual Wage Forms A & B would be required to be filed 30 days after the end of each year, instead of 45 days (49 CFR 1245.2);¹

¹ The form titles currently provided in 49 CFR 1245.2, “Form QRSC” and “Form ARSC” are outdated. The form titles will be updated if the Board adopts final rules in this proceeding.

(4) Quarterly and Annual Form QCS would be required to be filed 30 days after the end of each period for which they are compiled, instead of 60 days (49 CFR 1248.5);

(5) Form C would be required to be filed 10 days after the end of each month, instead of the current practice of 15 days (49 CFR 1246.1); ² and

² The current regulations at 49 CFR 1246.1 state that these reports are due “by the end of the month to which it applies.” In practice, the Board has accepted the report 15 days after the end of the month. The form title, “Form MRRE” is also outdated. The form title will be updated if the Board adopts final rules in this proceeding.

(6) Form STB-54 would be filed 60 days, instead of 90 days, after the end of each year (49 CFR 1247.1).

The proposed regulations would also amend the language in 49 CFR 1245.3(b) to clarify that the number of employees reported on Forms A & B should be consistent with the number reported on Form C, pursuant to part 1246. Similarly, the proposal would amend the language in 49 CFR 1246.1 to clarify the method by which carriers arrive at the monthly average number of employees. These changes codify the current settled practice of the reporting railroads. References to the “Interstate Commerce Act” would be replaced with “part A of subtitle IV of title 49, United States Code” ³ between 49 CFR parts 1241 and 1248 to accurately describe the current controlling statute. We are also proposing to eliminate the requirement of railroads to file “duplicate” copies of reports. Because railroads currently submit their reports electronically, this eliminates the need for hard copies to be filed. We are proposing to remove this requirement, with the exception of the Annual Report Form R-1, which still requires hard copies to be filed.

³ These are the rail provisions of the Interstate Commerce Act, as amended by the ICC Termination Act of 1995.

Only negligible additional burdens to respondent railroads would be expected as a result of the expedited deadlines being proposed. Due to the availability of more robust financial and statistical reporting technology since the adoption of the current Class I railroad reporting requirements, the information requested should be readily available for timely filing under the proposed deadlines. In addition, it is standard practice for companies to compile and summarize accounting transactions and financial data on a monthly basis, if not more frequently. Therefore, we anticipate that more timely reporting of the required information could be accomplished with negligible additional burden on the railroads.

Paperwork Reduction Act. Pursuant to the Paperwork Reduction Act (PRA), 44 U.S.C. 3501-3549, and Office of Management and Budget (OMB) regulations at 5 CFR 1320.8(d)(3), the Board seeks comments regarding: (1) Whether the revisions to the collections of information proposed here are necessary for the proper performance of the functions of the Board, including whether the collection has practical utility; (2) the accuracy of the Board's burden assessment; (3) ways to enhance the quality, utility, and clarity of the information collected; and (4) ways to minimize the burdens of the collections of information on the respondents, including the use of automated collection techniques or other forms of information technology, when appropriate. The proposed revisions described in this notice are being submitted to OMB for review as required under the PRA, 44 U.S.C. 3507(d) and OMB regulations at 5 CFR 1320.11. Comments received by the Board regarding the information collection will also be forwarded to OMB for its review when the final rule is published.

Regulatory Flexibility Act Certification. Pursuant to 5 U.S.C. 605(b), the Board certifies that this action will not have a significant economic effect on a substantial number of small entities within the meaning of the Regulatory Flexibility Act. These proposed rules will provide revised reporting deadlines for financial and statistical data for Class I railroads (carriers having annual carrier operating revenues of $250 million or more as defined by 49 CFR part 1201, General Instruction 1-1(a)). Based on the Small Business Administration's regulations at 13 CFR 121.201, none of the current Class I railroads qualify as a small business (1,500 or fewer employees for line-haul railroads). Therefore, no small entities would be subject to these requirements. A copy of this decision is being provided to the Chief Counsel for Advocacy, Small Business Administration.

This action will not significantly affect the quality of the human environment or the conservation of energy resources.

It is ordered:

1. Comments on this proposal are due by August 7, 2015; reply comments are due by September 8, 2015.

2. A copy of this decision will be served upon the Chief Counsel for Advocacy, Office of Advocacy, U.S. Small Business Administration.

3. Notice of this decision will be published in the Federal Register.

4. This decision is effective on its service date.

List of Subjects

49 CFR Part 1241

Railroads, Reporting and recordkeeping requirements.

49 CFR Part 1242

Railroad and taxes.

49 CFR Part 1243

Railroads, Reporting and recordkeeping requirements.

49 CFR Part 1244

Freight, Railroads, Reporting and recordkeeping requirements.

49 CFR Part 1245

Railroad employees, Reporting and recordkeeping requirements, Wages.

49 CFR Part 1246

Railroad employees, Reporting and recordkeeping requirements.

49 CFR Part 1247

Freight, Railroads, Reporting and recordkeeping requirements.

49 CFR Part 1248

Freight, Railroads, Reporting and recordkeeping requirements, Statistics.

Decided: June 18, 2015.
By the Board, Acting Chairman Miller and Vice Chairman Begeman.
Jeffrey Herzig,
Clearance Clerk.

For the reasons set forth in the preamble, the Surface Transportation Board proposes to amend parts 1241, 1242, 1243, 1244, 1245, 1246, 1247, and 1248 of title 49, chapter X, of the Code of Federal Regulations as follows:

PART 1241—ANNUAL, SPECIAL, OR PERIODIC REPORTS—CARRIERS SUBJECT TO PART A OF SUBTITLE IV OF TITLE 49, UNITED STATES CODE

1. The authority citation for part 1241 continues to read as follows:

Authority: 49 U.S.C. 11145.

2. Revise § 1241.1 to read as follows:

§ 1241.1 Common carriers.

All common carriers subject to the provisions of part A of subtitle IV of title 49, United States Code, and the owners of all railroads engaged in interstate commerce as therein defined, are required to file in the office of the Board on or before the 31st day of March in each year, reports covering the preceding year that is being reported, giving the particulars called for in the annual reports required by the Board of said carriers and owners of railroads.

3. Amend § 1241.11 by revising paragraph (a) to read as follows:

§ 1241.11 Annual reports of Class I railroads.

(a) All line-haul railroad companies of Class I, as defined in part 1201 of this chapter, subject to part A of subtitle IV of title 49, United States Code, are required to file annual reports in accordance with Railroad Annual Report Form R-1. Such annual report shall be filed in duplicate in the Office of Economics, Surface Transportation Board, Washington, DC 20423-0001, on or before March 31 of the year following the year which is being reported.

* * * * *

PART 1242—SEPARATION OF COMMON OPERATING EXPENSES BETWEEN FREIGHT SERVICE AND PASSENGER SERVICE FOR RAILROADS

4. The authority citation for part 1242 continues to read as follows:

Authority: 49 U.S.C. 721, 11142.

5. Amend § 1242.00 by revising paragraph (a) to read as follows:

§ 1242.00 Separation of common operating expenses.

(a) All Class I railroad companies including Class I switching and terminal companies subject to part A of subtitle IV of title 49, United States Code, shall separate operating expenses common to both freight service and passenger service in accordance with the regulation in this part.

* * * * *

PART 1243—QUARTERLY OPERATING REPORTS—RAILROADS

6. The authority citation for part 1243 continues to read as follows:

Authority: 49 U.S.C. 721, 11145.

7. Revise § 1243.1 to read as follows:

§ 1243.1 Revenues, expenses and income.

All Class I railroads, except switching and terminal companies, subject to the provisions of part A of subtitle IV of title 49, United States Code, are required to compile and file quarterly reports of revenues, expenses and income in accordance with Form RE&I, and instructions thereon. Such quarterly reports shall be electronically submitted or filed in the Office of Economics, Surface Transportation Board, Washington, DC 20423-0001, within 15 days after the end of each quarter to which they relate.

8. Revise § 1243.2 to read as follows:

§ 1243.2 Condensed balance sheet.

All Class I railroads, except switching and terminal companies, subject to the provisions of part A of subtitle IV of title 49, United States Code, are required to compile and file quarterly reports of balance sheet items in accordance with Form CBS, and instructions thereon. Such quarterly reports shall be electronically submitted or filed with the Office of Economics, Surface Transportation Board, Washington, DC 20423-0001, within 15 days after the end of each quarter to which they relate.

9. Revise § 1243.3 to read as follows:

§ 1243.3 Report of fuel cost, consumption, and surcharge revenue.

All Class I railroads are required to file quarterly a Report of Fuel Cost, Consumption, and Surcharge Revenue, in accordance with the Board's reporting form. Such reports shall be electronically submitted or filed with the Office of Economics, Surface Transportation Board, Washington, DC 20423-0001, within 15 days after the end of each quarter reported.

PART 1244—WAYBILL ANALYSIS OF TRANSPORTATION OF PROPERTY—RAILROADS

10. The authority citation for part 1244 continues to read as follows:

Authority: 49 U.S.C. 721, 10707, 11144, 11145.

11. Revise § 1244.1(a) to read as follows:

§ 1244.1 Definitions.

(a) Railroad-an individual railroad or terminal company subject to part A of subtitle IV of title 49, United States Code, and every receiver, trustee, executor, administrator or assignee of any such railroad. If a railroad and its railroad subsidiaries report to the Board on a consolidated basis, they would collectively be considered as a railroad.

* * * * *

PART 1245—CLASSIFICATION OF RAILROAD EMPLOYEES; REPORTS OF SERVICE AND COMPENSATION

12. The authority citation for part 1245 continues to read as follows:

Authority: 49 U.S.C. 721, 11145.

13. Revise § 1245.2 to read as follows:

§ 1245.2 Reports of railroad employees, service and compensation.

All Class I railroads are required to file a Quarterly Report of Railroad Employees, Service, and Compensation, (Quarterly Forms A & B). In addition, such carriers shall also file an Annual Report of Railroad Employees, Service, and Compensation, (Annual Forms A & B) for each calendar year. Both reports shall be electronically submitted or filed with the Office of Economics, Surface Transportation Board, Washington, DC 20423-0001. The quarterly report shall be filed within 15 days after the end of each calendar quarter. The annual report shall be filed within 30 days after the end of each reporting year.

14. Revise § 1245.3(b) to read as follows:

§ 1245.3 Employees; definition, service hours, and compensation.

* * * * *

(b) Counting employees. Because the number of employees fluctuates, carriers are required to classify and count all of their employees on a monthly basis, consistent with the data reported in accordance with § 1246.1 of this chapter.

* * * * *

PART 1246—NUMBER OF RAILROAD EMPLOYEES

15. The authority citation for part 1246 continues to read as follows:

Authority: 49 U.S.C. 721, 11145.

16. Revise § 1246.1 to read as follows:

§ 1246.1 Monthly report of number of railroad employees.

Each Class I railroad shall file a Monthly Report of Number of Railroad Employees (Form C) each month. The number reported should represent the average of the actual count at the beginning of the reported month and the actual count at the end of the month. The report should be electronically submitted or mailed to Office of Economics, Surface Transportation Board, Washington, DC 20423-0001, 10 days after the end of each month to which it applies.

PART 1247—REPORT OF CARS LOADED AND CARS TERMINATED

17. The authority citation for part 1247 continues to read as follows:

Authority: 49 U.S.C. 721, 10707, 11144, 11145.

18. Revise § 1247.1 to read as follows:

§ 1247.1 Annual Report of Cars Loaded and Cars Terminated.

Each Class I railroad shall file Form STB-54, Annual Report of Cars Loaded and Cars Terminated, together with the accompanying certification, with the Office of Economics (OE), Surface Transportation Board, Washington, DC 20243-0001, within 60 days after the end of each reporting year. Blank forms and instructions are available on the Board's Web site (http://www.stb.dot.gov) or can be obtained by contacting OE.

PART 1248—FREIGHT COMMODITY STATISTICS

19. The authority citation for part 1248 continues to read as follows:

Authority: 49 U.S.C. 721, 11144, and 11145.

20. Revise § 1248.1 to read as follows:

§ 1248.1 Freight commodity statistics.

All Class I railroads, as described in part 1201 of this chapter, subject to part A of subtitle IV of title 49, United States Code, shall compile and report freight commodity statistics on the basis of the commodity codes named in § 1248.101. Carriers shall report quarterly and annually on the basis of the 3, 4 and 5-digit commodity codes named in that section. Such reports shall be made in conformity with the outline of terms set forth in §§ 1248.2 through 1248.5, as supplemented by instructions included in the appropriate report form to be supplied to the reporting railroads.

21. Revise § 1248.5 to read as follows:

§ 1248.5 Report forms and date of filing.

(a) Reports required from Class I carriers by this section shall be electronically submitted or filed with the Office of Economics, Surface Transportation Board, Washington, DC 20423-0001, on forms which will be furnished to the carriers. Data required under § 1248.2 shall be filed on Form QCS on or before the 30th day succeeding the close of each period for which they are compiled.

(b) [Reserved]

Note to § 1248.5: The outline of Report Form QCS follows the tenor of the order.

Note: The following appendix will not appear in the Code of Federal Regulations.

Appendix—Collection Number 1

Title: Class I Railroad Annual Report.

OMB Control Number: 2140-0009.

Form Number: R1.

Type of Review: Revision of a currently approved collection.

Respondents: Class I railroads.

Number of Respondents: 7.

Estimated Time Per Response: The railroads currently spend no more than 800 hours preparing the Annual Report Form R-1, including time spent reviewing instructions; searching existing data sources; gathering and maintaining the data needed; completing and reviewing the collection of information; and converting the data from the carrier's individual accounting system to the Board's Uniform System of Accounts (USOA), which ensures that the information will be presented in a consistent format across all reporting railroads, see 49 U.S.C. 11141-43, 11161-64, 49 CFR parts 1200 and 1201. The proposed modification would be limited to a change in the due date for the Report's Schedule 250 and would not increase the hourly burden.

Frequency of Response: Annual.

Total Annual Hour Burden: No more than 5,600 hours.

Total Annual “Non-Hour Burden” Cost: Respondents are currently required to submit a signed hard copy of this report. We estimate a total annual cost for all respondents of $28. The proposed modification will not increase the cost burden.

Needs and Uses: Annual reports are required to be filed by Class I railroads under 49 U.S.C. 11145. The reports show operating expenses and operating statistics of the carriers. Operating expenses include costs for right-of-way and structures, equipment, train and yard operations, and general and administrative expenses. Operating statistics include such items as car-miles, revenue-ton-miles, and gross ton-miles. The reports are used by the Board, other Federal agencies, and industry groups to monitor and assess railroad industry growth, financial stability, traffic, and operations, and to identify industry changes that may affect national transportation policy. The annual reports also contain multiple schedules. One of these schedules is the Schedule 250 (required under the Annual Report Form R-1). The Schedule 250 data is used to compute the rate of return on net investment (ROI) for the Class I Railroads, which is used in annual determination of railroad revenue adequacy. See 49 U.S.C. 10704(a)(3); Standards for Railroad Revenue Adequacy, 364 I.C.C. 803 (1981); Standards for Railroad Revenue Adequacy, 3 I.C.C. 2d 261 (1986); and Supplemental Reporting of Consolidated Information for Revenue Adequacy, 5 I.C.C. 2d 65 (1988). The only modification being made to the annual report is the modification of the due date for Schedule 250. Receiving this data at the earlier date would enable the Board to expedite the Board's revenue-adequacy determinations. This change in due date was made possible by the improvements in technology. No other changes to this collection are being made.

Information from certain schedules contained in these reports is compiled and published on the Board's Web site, http://www.stb.dot.gov/stb/industry/econ_reports.html. Information in these reports is not available from any other source.

Collection Number 2

Title: Quarterly Report of Revenues, Expenses, and Income—Railroads (Form RE&I).

OMB Control Number: 2140-0013.

Form Number: None.

Type of Review: Revision of a currently approved collection.

Respondents: Class I railroads.

Number of Respondents: 7.

Estimated Time per Response: 6 hours.

Frequency of Response: Quarterly.

Total Annual Hour Burden: 168 hours.

Total Annual “Non Hour Burden” Cost: No “non-hour cost” burdens associated with this collection have been identified.

Needs and Uses: This collection is a report of railroad operating revenues, operating expenses and income items; it is a profit and loss statement, disclosing net railway operating income on a quarterly and year-to-date basis for the current and prior years. See 49 CFR 1243.1. The Board uses the information in this report to ensure competitive, efficient, and safe transportation through general oversight programs that monitor and forecast the financial and operating condition of railroads, and through regulation of railroad rate and service issues and rail restructuring proposals, including railroad mergers, consolidations, acquisitions of control, and abandonments. Information from these reports is used by the Board, other Federal agencies, and industry groups to monitor and assess industry growth and operations, detect changes in carrier financial stability, and identify trends that may affect the national transportation system. Some of the information from these reports is compiled by the Board in our quarterly Selected Earnings Data Report, which is published on the Board's Web site, http://www.stb.dot.gov. The information contained in these reports is not available from any other source.

Collection Number 3

Title: Quarterly Condensed Balance Sheet—Railroads (Form CBS).

OMB Control Number: 2140-0012.

Form Number: None.

Type of Review: Revision of a currently approved collection.

Respondents: Class I railroads.

Number of Respondents: 7.

Estimated Time per Response: 6 hours.

Frequency of Response: Quarterly.

Total Annual Hour Burden: 168 hours.

Total Annual “Non-Hour Burden” Cost: No “non-hour cost” burdens associated with this collection have been identified.

Needs and Uses: This collection shows the balance (quarterly and cumulative) for the current and prior year of the carrier's assets and liabilities, gross capital expenditures, and revenue tons carried. See 49 CFR 1243.2. The Board uses the information in this report to ensure competitive, efficient, and safe transportation through general oversight programs that monitor and forecast the financial and operating condition of railroads, and through specific regulation of railroad rate and service issues and rail restructuring proposals, including railroad mergers, consolidations, acquisitions of control, and abandonments. Information from these reports is used by the Board, other Federal agencies, and industry groups to assess industry growth and operations, detect changes in carrier financial stability, and identify trends that may affect the national transportation system. Revenue ton-miles, which are reported in these reports, are compiled and published by the Board in its quarterly Selected Earnings Data Report, which is published on the Board's Web site, http://www.stb.dot.gov. The information contained in these reports is not available from any other source.

Collection Number 4

Title: Report of Railroad Employees, Service and Compensation (Wage Forms A and B).

OMB Control Number: 2140-0004.

Form Number: None.

Type of Review: Revision of a currently approved collection.

Respondents: Class I railroads.

Number of Respondents: 8.

Estimated Time per Response: No more than 30 hours per quarterly report and 40 hours per annual summation.

Frequency of Response: Quarterly, with an annual summation.

Total Annual Hour Burden: No more than 1280 hours.

Total Annual “Non-Hour Burden” Cost: No “non-hour cost” burdens associated with this collection have been identified.

Needs and Uses: This collection shows the number of employees, service hours, and compensation, by employee group (e.g., executive, professional, maintenance-of-way and maintenance of equipment, and transportation), of the reporting railroads. See 49 CFR part 1245. The information is used by the Board to forecast labor costs and measure the efficiency of the reporting railroads. The information is also used by the Board to evaluate proposed regulated transactions that may impact rail employees, including mergers and consolidations, acquisitions of control, purchases, and abandonments. Other Federal agencies and industry groups, including the Railroad Retirement Board, Bureau of Labor Statistics, and Association of American Railroads, use the information contained in the reports to monitor railroad operations. Certain information from these reports is compiled and published on the Board's Web site, http://www.stb.dot.gov. The information contained in these reports is not available from any other source.

Collection Number 5

Title: Monthly Report of Number of Employees of Class I Railroads (Form C).

OMB Control Number: 2140-0007.

Form Number: None.

Type of Review: Revision of a currently approved collection.

Respondents: Class I railroads.

Number of Respondents: 8.

Estimated Time per Response: 1.25 hours.

Frequency of Response: Monthly.

Total Annual Hour Burden: 120 hours.

Total Annual “Non-Hour Burden” Cost: No “non-hour cost” burdens associated with this collection have been identified.

Needs and Uses: This collection shows, for each reporting carrier, the average number of employees at mid-month in the six job-classification groups that encompass all railroad employees. See 49 CFR part 1246. The information is used by the Board to forecast labor costs and measure the efficiency of the reporting railroads. The information is also used by the Board to evaluate the impact on rail employees of proposed regulated transactions, including mergers and consolidations, acquisitions of control, purchases, and abandonments. Other Federal agencies and industry groups, including the Railroad Retirement Board, Bureau of Labor Statistics, and Association of American Railroads, use the information contained in these reports to monitor railroad operations. Certain information from these reports is compiled and published on the Board's Web site, http://www.stb.dot.gov. The information contained in these reports is not available from any other source.

Collection Number 6

Title: Annual Report of Cars Loaded and Cars Terminated.

OMB Control Number: 2140-0011.

Form Number: Form STB-54.

Type of Review: Revision of a currently approved collection.

Number of Respondents: 7.

Estimated Time per Response: 4 hours.

Frequency of Response: Annual.

Total Annual Hour Burden: 28 hours.

Total Annual “Non Hour Burden” Cost: No “non-hour cost” burdens associated with this collection have been identified.

Needs and Uses: This collection reports the number of cars loaded and cars terminated on the reporting carrier's line. See 49 CFR part 1247. Information in this report is entered into the Board's URCS, the uses of which are explained under Collection Number 1. There is no other source for the information contained in this report.

Collection Number 7

Title: Quarterly Report of Freight Commodity Statistics (Form QCS).

OMB Control Number: 2140-0001.

Form Number: None.

Type of Review: Revision of a currently approved collection.

Respondents: Class I railroads.

Number of Respondents: 7.

Estimated Time per Response: 217 hours.

Frequency of Response: Quarterly, with an annual summation.

Total Annual Hour Burden: 7,595 hours annually.

Total Annual “Non-Hour Burden” Cost: No “non-hour cost” burdens associated with this collection have been identified.

Needs and Uses: This collection, which is based on information contained in carload waybills used by railroads in the ordinary course of business, reports car loadings and total revenues by commodity code for each commodity that moved on the railroad during the reporting period. See 49 CFR part 1248. Information in this report is entered into the Board's URCS, the uses of which are explained under Collection Number 1. There is no other source for the information contained in this report.

Collection Number 8

Title: Report of Fuel Cost, Consumption, and Surcharge Revenue.

OMB Control Number: 2140-0014.

STB Form Number: None.

Type of Review: Revision of a currently approved collection.

Respondents: Class I railroads.

Number of Respondents: 7.

Estimated Time per Response: 1 hour.

Frequency: Quarterly.

Total Burden Hours (annually including all respondents): 28 hours.

Total “Non-hour Burden” Cost: None identified.

Needs and Uses: Under 49 U.S.C. 10702, the Surface Transportation Board has the authority to address the reasonableness of a rail carrier's practices. The proposed information collection is intended to permit the Board to monitor the current fuel surcharge practices of the Class I carriers. Failure to collect this information would impede the Board's ability to monitor the current fuel surcharge practices of Class I carriers. The Board has authority to collect information about rail costs and revenues under 49 U.S.C. 11144 and 11145.

[FR Doc. 2015-15407 Filed 7-7-15; 8:45 am]

BILLING CODE 4915-01-P